DEPARTMENT OF AGRICULTURE

Food and Nutrition Service

Food Distribution Program: Value of Donated Foods From July 1, 2006 Through June 30, 2007; Correction

AGENCY: Food and Nutrition Service, USDA.

ACTION: Notice; correction.

The Food and Nutrition Service, USDA, published a document on July 17, 2006, announcing the national average value of donated foods or, where applicable, cash in lieu of donated foods, to be provided in school year 2007 (July 1, 2006 through June 30, 2007) for each lunch served by schools participating in the National School Lunch Program (NSLP), and for each lunch and supper served by institutions participating in the Child and Adult Care Food Program (CACFP). This document contained an error in the announced national average value of donated foods of 16.75 cents, which resulted from incorrect rounding of the index used to make the legislatively mandated annual adjustment in such value. The correct value is 17.00 cents. The correct per-meal value of donated food assistance has been provided to schools and institutions, and the correct per-meal value of cash or commodity letter of credit in lieu of such assistance will be provided to schools participating in CASH/CLOC sites. The correct per-meal value of cash in lieu of donated food assistance will also be provided to the State of Kansas for lunches served by schools participating in NSLP in that State, and to the appropriate States for lunches and suppers served by institutions in CACFP.

Correction

In notice document E6-11214, published on July 17, 2006 at 71 FR 40470, make the following corrections: On page 40471, in the 1st column, in the 27th line under the heading “National Average Minimum Value of Donated Foods for the Period July 1, 2006 Through June 30, 2007,” change “16.75 cents” to “17.00 cents”. On page 40471, in the 2nd column, in the 3rd line, change “16.75 cents” to “17.00 cents”. On page 40471, in the 2nd column, in the 4th line, change “0.75 cents” to “0.50 cents”.

Dated: May 7, 2007.
George A. Braley,
Acting Administrator, Food and Nutrition Service.

[FR Doc. E7-9194 Filed 5-11-07; 8:45 am]

BILLING CODE 3410-30-P